DEPARTMENT OF THE INTERIOR

Agency Information Collection Activities: USGS Earthquake Hazards Program (EHP) Annual Assistance Announcement

AGENCY: U.S. Geological Survey (USGS).

SUMMARY: To comply with the Paperwork Reduction Act of 1995 (PRA), we (the U.S. Geological Survey) are notifying the public that we have submitted to the Office of Management and Budget (OMB) Notice of an extension of an information collection (1028-0051). This notice provides the public an opportunity to comment on the paperwork burden of this project. The Information Collection Request (ICR), which is summarized below, describes the nature and the estimated burden of the collection. We acknowledge that we may not conduct or sponsor and a person is not required to respond to a collection of information unless it displays a currently valid OMB control number.

DATE: You must submit comments on or before January 13, 2010.

ADDRESSES: Please submit written comments on this information collection directly to the Office of Management and Budget (OMB) Office of Information and Regulatory Affairs, Attention: Desk Officer for the Department of the Interior via e-mail to OIRA_DOCKET@omb.eop.gov or fax at 202-395-5806; and identify your submission with Information Collection Number 1028-0051. Please also provide a copy of your comments to Phadrea Ponds, Information Collections, U.S. Geological Survey, 2150-C Center Avenue, Fort Collins, CO 80525 (mail); (970) 226-9230 (fax); or FAX: pponds@usgs.gov (e-mail). Use Information Collection Number 1028-0051 in the subject line.

FOR FURTHER INFORMATION CONTACT: Elizabeth Lemersal, Earthquake Hazards Program by telephone at (703) 648-6716.

I. Supplementary Information

Abstract

Research and monitoring findings are essential to fulfilling USGS's responsibility under the Earthquake Hazards Reduction Act to develop earthquake hazard assessments and recording and reporting earthquake activity nationwide. Residents, emergency responders, and engineers rely on the USGS for this accurate and scientifically sound information. Respondents to Program Announcements submit proposals to support research and monitoring related to earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the Web site http://earthquake.usgs.gov/research/external/.

II. Data

OMB Control Number: 1028-0051.

Title: Earthquake Hazards Program Research and Monitoring.

Type of Request: Extension of a currently approved collection.

Affected Public: Research scientists, engineers, and the general public.

Respondent Obligation: Required; necessary to receive benefits.

Frequency of Collection: Annually and once every three to five years.

Estimated Annual Number of and Description of Respondents: 250 Educational institutions, and profit and non-profit organizations.

Estimated Annual Number of Responses: 370 (250 applications and narratives and 120 annual and/or final reports).

Estimated Completion Time: 45 hours per application response and 9 hours per final report.

Estimated Annual Burden Hours: 12,330 (11,250 hours per application and 1,080 hours per annual and/or final report).

Estimated Annual Reporting and Recordkeeping “Hour” Burden: 12,330 hours. We estimate the public reporting burden will average 45 hours per application response. This includes time to develop project goals, write the statement of work, perform internal proposal reviews, and submit the proposal through grants.gov. We estimate the public reporting burden will average 9 hours per final or annual report response. This includes summarizing accomplishments for the past year's funded efforts.

Estimated Reporting and Recordkeeping “Non-Hour Cost” Burden: There are no “non-hour cost” burdens associated with this collection of information.

III. Request for Comments

On September 22, 2009, we published a Federal Register notice (74 FR 48281) soliciting comments announcing that we would submit this information to OMB for approval. We solicited comments for a period of 60 days, ending on November 23, 2009. We did not receive any comments concerning that notice.

We again invite comments concerning this ICR on: (1) Whether the proposed collection of information is necessary for the agency to perform its duties, including whether or not the information will have practical utility; (2) the accuracy of the agency's estimate of the burden of the proposed collection of information; (3) ways to enhance the quality, usefulness, and clarity of the information to be collected; and (4) ways to minimize the burden on the respondents, including the use of automated collection techniques or other forms of information technology.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

USGS Information Collection Clearance Officer: Phadrea Ponds 970-226-9445.

Dated: December 7, 2009.
David Applegate,
Senior Science Advisor for Earthquake and Geologic Hazards.

[FR Doc. E9-29642 Filed 12-11-09; 8:45 am]

BILLING CODE 4311-AM-P